DEPARTMENT OF STATE

[Public Notice 8073]

30-Day Notice of Proposed Information Collection: Supplemental Registration for the Diversity Immigrant Visa Program

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 26, 2012.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sydney Taylor, Visa Services, U.S. Department of State, 2401 E Street NW., L-630, Washington, DC who may be reached at PRA_BurdenComments@state.gov.

SUPPLEMENTARY INFORMATION: • Title of Information Collection: Supplemental Registration for the Diversity Immigrant Visa Program.

• OMB Control Number: 1405-0098.

• Type of Request: Extension.

• Originating Office: CA/VO/L/R.

• Form Number: DSP-0122.

• Respondents: Diversity Visa Applicants.

• Estimated Number of Respondents: 60,000.

• Estimated Number of Responses: 60,000.

• Average Time per Response: 30 minutes.

• Total Estimated Burden Time: 30,000 hours.

• Frequency: Once per Application.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Each time the Diversity Visa lottery is conducted, the Kentucky Consular Center (KCC) will register the randomly selected entries and send the applicants an Instruction Package for Immigrant Visa Applicants, which consists of Form DS-122 (Supplemental Registration for the Diversity Immigrant Visa Program) and Form DS-230 (Application for Immigrant Visa and Alien Registration Part I and II). In order for an applicant to be considered for a visa, the applicant must complete and return both of the above-mentioned forms to KCC. Upon receipt of these forms, KCC will transmit the Immigrant Visa Appointment Package to the US Embassy or Consulate and schedule an appointment for the applicant.

Methodology: Applicants must return the completed form to the KCC via mail.

Dated: October 20, 2012.
Don Heflin,
Acting Deputy Assistant Secretary, Visa Services, Consular Affairs, Department of State.

[FR Doc. 2012-26393 Filed 10-25-12; 8:45 am]

BILLING CODE 4710-06-P